DEPARTMENT OF ENERGY

Federal Energy Regulatory Commission

[Docket No. EF07-2021-000]

U.S. Department of Energy; Bonneville Power Administration; Notice of Filing

June 6, 2007.

Take notice that on May 22, 2007, U.S. Department of Energy, Bonneville Power Administration (Bonneville), tendered for filing proposed rate adjustments for its 2008 Transmission and Ancillary Services Rates pursuant to sections 7(a)(2) and 7(i)(6) of the Pacific Northwest Electric Power Planning and Conservation Act, 16 U.S.C. 839e(a)(2) and 839e(i)(6). Pursuant to Commission regulations sections 300.10 and 300.21 (18 CFR 300.10 and 300.21), Bonneville seeks interim approval of the proposed transmission and ancillary services effective October 1, 2007, followed by final confirmation and approval. Bonneville also seeks a finding by the Commission that the proposed rates satisfy the Commission's comparability standards applicable to non-public utilities pursuant to the reciprocity conditions of Order No. 888, FERC Stats. & Regs. ¶ 31,760 et seq.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all the parties in this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on June 21, 2007.

Kimberly D. Bose,
Secretary.

[FR Doc. E7-11361 Filed 6-12-07; 8:45 am]

BILLING CODE 6717-01-P